ENVIRONMENTAL PROTECTION AGENCY

[FRL-6538-6]

Microbial and Disinfectants/Disinfection Byproducts Advisory Committee; Meeting Cancellation Notice

Meeting Cancellation—Microbial and Disinfectants/Disinfection Byproducts Federal Advisory Committee—February 16-17, 2000.

The meeting of the Microbial and Disinfectants/Disinfection Byproducts Federal Advisory Committee that was scheduled for February 16-17, 2000 between the hours of 9 a.m. and 5 p.m. eastern time, has been canceled. The meeting was advertised in the 65 FR 133, dated January 3, 2000. The next meeting is scheduled for March 29-30, from 9 a.m. to 5 p.m. eastern time and will be held at RESOLVE, Inc., 1255 23rd Street, NW, Suite 275, Washington, DC 20037. All remaining meetings will continue as scheduled. For more information, please contact Martha M. Kucera, Designated Federal Officer, Microbial Disinfectants/Disinfection Byproducts Advisory Committee, U.S. EPA, Office of Ground Water and Drinking Water, Mailcode 4607, 401 M Street, SW, Washington, DC 20460. The telephone number is 202-260-7773 or E-mail kucera.martha@epamail.epa.gov.

Dated: February 11, 2000.
Cynthia C. Dougherty,
Director, Office of Ground Water and Drinking Water.

[FR Doc. 00-3670 Filed 2-14-00; 8:45 am]

BILLING CODE 6560-50-P